DEPARTMENT OF THE INTERIOR

National Park Service

Trail of Tears National Historic Trail Advisory Council; Notice of Meeting

Notice of hereby given in accordance with the Federal Advisory Committee Act, Public Law 92-463, that a meeting of the Trail of Tears National Historic Trail Advisory Council will be held October 15, 2002, 8 a.m., at the Holiday Inn City Center, 700 Rogers Avenue, Fort Smith, Arkansas, 72901.

The Trail of Tears National Historic Trail Advisory Council was established administratively under authority of Section 3 of public Law 91-383 (16 U.S.C. 1s-2(c)), to consult with the Secretary of the Interior on the implementation of a comprehensive plan and other matters relating to the Trail, including certification of sites and segments, standards for erection and maintenance of markers, preservation of trail resources, American Indian relations, visitor education, historical research, visitor use, cooperative management, and trail administration.

The matters to be discussed include:

• NPS work plan for Fiscal Year 2003.

• Trail budget.

• Comprehensive Management and Use Plan implementation strategies.

• Interpretive planning needs for the Trail of Tears National Historic Trail.

The meeting will be open to the public. However, facilities and space for accommodating members of the public are limited, and persons will be accommodated on a first-come, first-served basis. Any member of the public may file a written statement concerning the matters to be discussed with Jere Krakow, Acting Superintendent.

Persons wishing further information concerning this meeting, or who wish to submit written statements may contact the Superintendent, Long Distance Trails Group Office—Santa Fe, National Park Service, P.O. Box 728, Santa Fe, New Mexico 87504-0728, telephone (505) 988-6888. Minutes of the meeting will be available for public inspection at the Office of the Superintendent located in Room 1081, Paisano Building, 2968 Rodeo Park Drive West, Santa Fe, New Mexico.

Dated: August 17, 2002.
John T. Conoboy,
Acting Superintendent.

[FR Doc. 02-24042 Filed 9-20-02; 8:45 am]

BILLING CODE 4310-70-M